DEPARTMENT OF AGRICULTURE

Forest Service

Notice of Meetings; Shasta-Trinity National Forest

AGENCY: Forest Service, USDA.

ACTION: Notice of meetings.

SUMMARY: The Shasta-Trinity National Forest will host a series of introductory meetings to initiate the collaborative Off-Highway Vehicle (OHV) Route Designation process on the Shasta-Trinity National Forest.

DATES: February 15, 16, 17 and 18 of 2005.

ADDRESSES: February 15, 2005: Weaverville Fire Hall, 100 Bremer Street, Weaverville, CA 96093.

February 16, 2005: Trinity County Fairgrounds, South Highway 3, Hayfork, CA 96041.

February 17, 2005: Mt. Shasta Community Center, 629 Alder Street, Mt. Shasta, CA 96067.

February 18, 2005: USDA Service Center, 3644 Avtech Parkway, Redding, CA 96002.

FOR FURTHER INFORMATION CONTACT: Brenda Tracy, Assistant Public Use Staff Officer, at (530) 226-2500.

SUPPLEMENTARY INFORMATION: Over the next four years, the National Forests in California will designate a system of roads, trails and specifically defined areas for OHV use to provide quality recreation experiences and maximize the protection of resources.

A series of meetings will be needed to complete the OHV Route Designation process on the Shasta-Trinity National Forest. The public is encouraged to participate.

Dated: January 6, 2005.
J. Sharon Heywood,
Forest Supervisor.

[FR Doc. 05-714 Filed 1-12-05; 8:45 am]

BILLING CODE 3410-11-M